DEPARTMENT OF COMMERCE

International Trade Administration

Initiation of Antidumping and Countervailing Duty Administrative Reviews and Request for Revocation in Part

AGENCY: Import Administration, International Trade Administration, Department of Commerce.

SUMMARY: The Department of Commerce (the Department) has received requests to conduct administrative reviews of various antidumping and countervailing duty orders and findings with March anniversary dates. We received a timely request to revoke one antidumping duty order in part. In accordance with the Department's regulations, we are initiating those administrative reviews.

DATES: Effective Date: April 27, 2009.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with March anniversary dates. We also received a timely request to revoke in part the antidumping duty order on Certain Orange Juice from Brazil with respect to one exporter.

Notice of No Sales

Under 19 CFR 351.213(d)(3), the Department may rescind a review where there are no exports, sales, or entries of subject merchandise during the respective period of review (POR) listed below. If a producer or exporter named in this initiation notice had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (the Act). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (CBP) data for U.S. imports during the POR. We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://ia.ita.doc.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name ², should timely file a Separate Rate Application to demonstrate eligibility for a separate rate in this proceeding. The Separate Rate Application will be available on the Department's Web site at http://ia.ita.doc.gov/nme/nme-sep-rate.html on the date of publication of this Federal Register notice. In responding to the Separate Rate Application, refer to the instructions contained in the application. Separate Rate Applications are due to the Department no later than 60 calendar days of publication of this Federal Register notice. The deadline and requirement for submitting a Separate Rate Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

Initiation of Reviews

In accordance with section 19 CFR 351.221(c)(1)(i), we are initiating administrative reviews of the following antidumping and countervailing duty orders and findings. We intend to issue the final results of these reviews not later than March 31, 2010.

| Period to be Reviewed
Antidumping Duty Proceedings
Brazil:
Certain Hot-Rolled Carbon Steel Flat Products A-351-828 | 3/1/08-2/28/09
Companhia Siderurgica Paulista.
Usinas Siderurgicas de Minas Gerais.
Certain Orange Juice A-351-840 | 3/1/08-2/28/09
Fischer S/A Agroindustria/Fischer S.A. Comercio, Industria, and Agricultura.
Sucocitrico Cutrale SA.
Germany:
Brass Sheet and Strip A-428-602 | 3/1/08-2/28/09
Wieland-Werke AG.
Thailand:
Circular Welded Carbon Steel Pipe and Tube A-549-502 | 3/1/08-2/28/09
Saha Thai Steel Pipe (Public) Company, Ltd.
Pacific Pipe Public Company Limited.
The People's Republic of China:
Certain Preserved Mushrooms ³ A-570-851 | 2/1/08-1/31/09
Fujian Yuxing Fruit & Vegetable Foodstuff Development Co., Ltd.
Certain Tissue Paper Products ⁴ A-570-894 | 3/1/08-2/28/09
Max Fortune Industrial Limited.
Max Fortune (FETDE) Paper Products Co., Ltd.
Seaman Paper Asia Company Limited.
Sunlake Décor Co., Ltd.
Glycine ⁵ A-570-836 | 3/1/08-2/28/09
Aditya Chemicials.
Advance Exports.
A.H.A. International Company, Ltd.
Aico Laboratories Ltd.
Ajinomoto Co., Inc.
Amishi Drugs & Chemicals, Ltd.
Amol Biotech Limited.
Antai Bio-Tech Co., Limited.
Baoding Mantong Fine Chemistry Co., Ltd.
Beijing Jian Li Pharmaceutical Co., Ltd.
Bimal Pharma, Pvt. Ltd.
Bulk Medicines & Pharmaceuticals GmbH.
CBC Co., Ltd.
Changzhou Dahua Importer and Exporter Group.
Chelest Corporation.
Chem-Base (Nantong) Laboratories Company.
CIBA Inc.
China Jiangsu International.
Degussa Rexim (Nanning) Pharmaceutical Co., Ltd.
Dhow International.
Du-Hope International Group.
Euro Asian Industrial Co.
Frezco Corporation.
Generic Chemical Co. Ltd.
Grand Overseas Economic Development Co., Ltd.
Green Carbon Products Co., Ltd.
Haerim Chemical Co. Ltd.
Hayashi Pure Chemical Industries Co. Ltd.
Hebei Donghua Chemical Corporation.
Hua Yip Co., Ltd.
Hubei Guangji Pharmaceutical Co., Ltd.
Huzhou New Century International Trade Co.
Jiangsu Sumec Group Corp.
Jiangxi Ansun Chemical Technology Co., Ltd.
Jizhou City Huayang Chemical Co., Ltd.
Keele Warehousing & Logistics.
Kenko Corporation.
Kraemer & Martin GmbH.
Korea Bio-Gen Co. Ltd.
Kumar Chemical Industries.
Kowa Company Ltd.
Kyowa Hakko Kogyo Co., Ltd.
Long Dragon Company Ltd.
Longwin International Inc.
Maruzen Chemicals Company Limited.
Nantong Dongchang Chemical Industry Corp.
Nantong Weifu Foreign Trade Co., Ltd.
Nu-scaan Nutraceuticals, Ltd.
Nutracare International.
Orichem International Ltd.
Paras Intermediates Pvt. Ltd.
Pharmatec Co., Ltd.
Protech International (Hong Kong) Co.
Pudong Trans USA, Inc.
Qingdao Highroad International Trade Co.
Qingdao Samin Chemical Co., Ltd.
Salvi Chemical Industries.
Samin Chemical Co., Ltd.
Santec Chemicals Corp.
Schenker China Ltd.
Seino Logix Co. Ltd.
Shanghai Dayue International.
Shanghai Freemen Lifescience Co., Ltd.
Shanghai Light Industrial.
Shanghai Waseta International.
Shijiazhuang Kingway Chemical Co.
Showa Denko K.K.
Sinochem Jiangsu Corporation.
Sinochem Qingdao Company, Ltd.
Sinosweet Company, Ltd.
Sisco Research Laboratories Pvt., Ltd.
Suru Chemicals and Pharmaceuticals, Pvt. Ltd.
Suzhou Everich Import & Export Co., Ltd.
Suzhou Textiles, Silk Light Industrial Products, Arts and Crafts I/E Co., Ltd.
Suzhou Vitajoy Bio-Tech Co. Ltd.
Suzhou Xingyue Import Export Company Limited.
Tablets 4 Less.
Taigene Global Enterprises Ltd.
Taiwan Hopax Chemicals Mfg. Co., Ltd.
Talke Belgie.
Tessenderlo Chemie NV.
Tianjin Tiancheng Pharmaceutical Company.
Uniexpress Limited.
Weifang Sunwin Chemicals, Ltd.
Wenda Co., Ltd.
Yuki Gosei Kogyo Co., Ltd.
Sodium Hexametaphosphate ⁶ A-570-908 | 9/14/07-02/28/09
Hubei Xingfa Chemical Group Co., Ltd.
Countervailing Duty Proceedings
Turkey:
Welded Carbon Steel Pipe and Tube C-489-502 | 1/1/08-12/31/08
Borusan Group.
Borusan Mannesmann Boru Sanayi ve Ticaret A.S.
Borusan Istikbal Ticaret T.A.S.
Yucel Boru Group.
Cayirova Boru Sanayi ve Ticaret A.S.
Yucelboru Ihracat Ithalat ve Pazarlama A.S.
Yucel Boru ve Profil Endustrisi A.S.
Tosyali dis Ticaret A.S.
Toscelik Profil ve Sac Endustrisi A.S.
Suspension Agreements
None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1765(a)), and 19 CFR 351.221(c)(1)(i).

Dated: April 21, 2009.
John M. Andersen,
Acting Deputy Assistant Secretary for Antidumping and Countervailing Duty Operations.

³ If the above-named company does not qualify for a separate rate, all other exporters of Certain Preserved Mushrooms from the People's Republic of China who have not qualified for a separate rate are deemed to be covered by this review as part of the single PRC entity of which the named exporters are a part. Also, this case was inadvertently omitted from the initiation notice that published on March 24, 2009 (74 FR 12310).

⁴ If one of the above-named companies does not qualify for a separate rate, all other exporters of Certain Tissue Paper Products from the People's Republic of China who have not qualified for a separate rate are deemed to be covered by this review as part of the single PRC entity of which the named exporters are a part.

⁵ If one of the above-named companies does not qualify for a separate rate, all other exporters of Glycine from the People's Republic of China who have not qualified for a separate rate are deemed to be covered by this review as part of the single PRC entity of which the named exporters are a part.

⁶ If one of the above-named companies does not qualify for a separate rate, all other exporters of Sodium Hexametaphosphate from the People's Republic of China who have not qualified for a separate rate are deemed to be covered by this review as part of the single PRC entity of which the named exporters are a part.

[FR Doc. E9-9587 Filed 4-24-09; 8:45 am]

BILLING CODE 3510-DS-P